DEPARTMENT OF LABOR

Employment and Training Administration

Announcement Regarding States Triggering “On” to the Second-Tier of Emergency Unemployment Compensation 2008 (EUC08)

AGENCY: Employment and Training Administration, Labor.

ACTION: Notice.

SUMMARY: Announcement regarding states triggering “on” to the Second-Tier of Emergency Unemployment Compensation (EUC08).

Public Law 110-449 created a Second-Tier of benefits for qualified unemployed workers claiming benefits in high unemployment states. The Department of Labor produces a trigger notice indicating which states qualify for the Second-Tier of EUC08 benefits and provides the beginning and ending dates of the Second-Tier period for each qualifying state. The trigger notice covering state eligibility for the Second-Tier of the EUC08 program can be found at: http://ows.doleta.gov/unemploy/claims_arch.asp. A new trigger notice is posted at this location each week that the program is in effect.

Beginning February 15, 2009, the following states are in a high unemployment period, resulting in their triggering “on” to the Second-Tier of the EUC08 program: Alabama, Maine, Massachusetts, and New York.

Information for Claimants

The duration of benefits payable in the EUC program, and the terms and conditions under which they are payable, are governed by Public Laws 110-252 and 110-449, and the operating instructions issued to the states by the U.S. Department of Labor. The State Workforce Agency in states beginning a high unemployment period, will furnish a written notice of potential entitlement to each individual who is potentially eligible for Second-Tier of EUC08 benefits.

Persons who believe they may be entitled to additional benefits under the EUC08 program, or who wish to inquire about their rights under the program, should contact their State Workforce Agency.

FOR FURTHER INFORMATION CONTACT: Scott Gibbons, U.S. Department of Labor, Employment and Training Administration, Office of Workforce Security, 200 Constitution Avenue, NW., Frances Perkins Bldg., Room S-4231, Washington, DC 20210, telephone number (202) 693-3008 (this is not a toll-free number) or by e-mail: gibbons.scott@dol.gov.

Signed in Washington, DC, this 13th day of February 2009.
Douglas F. Small,
Deputy Assistant Secretary, Employment and Training Administration.

[FR Doc. E9-3945 Filed 2-24-09; 8:45 am]

BILLING CODE 4510-FW-P